DEPARTMENT OF TRANSPORTATION

Surface Transportation Board

[Docket No. AB 882 (Sub-No. 3X)]

Minnesota Commercial Railway Company—Discontinuance of Service Exemption—in Washington County, MN ¹

¹ This transaction is related to a concurrently filed verified notice of exemption filed in Docket No. AB 6 (Sub-No. 474X), BNSF Railway Company—Abandonment Exemption—in Washington County, MN, in which BNSF seeks an exemption under 49 CFR Part 1152 subpart F to abandon the same 0.51-mile line.

Minnesota Commercial Railway Company (MNNR) filed a verified notice of exemption under 49 CFR Part 1152 subpart F—Exempt Abandonments and Discontinuances of Service to discontinue service over a 0.51-mile line of railroad owned by BNSF Railway Company (BNSF) between milepost 15.59 and milepost 16.10 at Hugo, in Washington County, MN. The line traverses United States Postal Service Zip Code 55038.²

² MNNR was authorized to lease and operate the line in Minnesota Commercial Railway Company—Lease & Operation Exemption—Burlington Northern Santa Fe Railway Co., FD 33577 (STB served Apr. 10, 1998).

MNNR has certified that: (1) No local traffic has moved over the line for at least 2 years; (2) no overhead traffic has been handled on the line for at least 2 years; and (3) no formal complaint filed by a user of rail service on the line (or by a state or local government entity acting on behalf of such user) regarding cessation of service over the line either is pending with the Surface Transportation Board or with any U.S. District Court or has been decided in favor of complainant within the 2-year period. MNNR also has certified that the requirements at 49 CFR 1105.12 (newspaper publication) and 49 CFR 1152.50(d)(1) (notice to governmental agencies) have been met.

As a condition to this exemption, any employee adversely affected by the discontinuance of service shall be protected under Oregon Short Line Railroad —Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, this exemption will be effective on August 13, 2011, unless stayed pending reconsideration. Petitions to stay that do not involve environmental issues and formal expressions of intent to file an OFA for continued rail service under 49 CFR 1152.27(c)(2) ³ must be filed by July 25, 2011.⁴ Petitions to reopen must be filed by August 3, 2011, with the Surface Transportation Board, 395 E Street, SW., Washington, DC 20423-0001.

³ Each OFA must be accompanied by the filing fee, which is currently set at $1,500. See 49 CFR 1002.2(f)(25).

⁴ Because this is a discontinuance proceeding and not an abandonment, trail use/rail banking and public use conditions are not appropriate. Likewise, no environmental or historic documentation is required here under 49 CFR 1105.6(c) and 49 CFR 1105.8(b), respectively.

A copy of any petition filed with the Board should be sent to MNNR's representative: Karl Morell, Ball Janik LLP, 655 Fifteenth Street, NW., Suite 225, Washington, DC 20005.

If the verified notice contains false or misleading information, the exemption is void ab initio.

Board decisions and notices are available on our Web site at HTTP://WWW.STB.DOT.GOV.

Decided: July 11, 2011.
By the Board.
Rachel D. Campbell,
Director, Office of Proceedings.
Andrea Pope-Matheson,
Clearance Clerk.

[FR Doc. 2011-17719 Filed 7-13-11; 8:45 am]

BILLING CODE 4915-01-P